DEPARTMENT OF ENERGY

Federal Energy Regulatory Commission

[Project Nos. 2403-056; 2312-019; 2721-020]

Penobscot River Restoration Trust; Notice of Availability of Draft Environmental Assessment

August 4, 2009.

In accordance with the National Environmental Policy Act of 1969 and the Federal Energy Regulatory Commission's regulations, 18 CFR Part 380 (Order No. 486, 52 FR 47879) the Office of Energy Projects has reviewed an application filed on November 7, 2008, to surrender the project licenses for the Veazie, Great Works, and Howland Hydroelectric Projects, located on the Penobscot and Piscataquis Rivers in Penobscot County, Maine. A draft environmental assessment (DEA) has been prepared as part of staff's review. The DEA finds that approval of the application would not constitute a major federal action significantly affecting the quality of the human environment.

A copy of the DEA is on file with the Commission and is available for public inspection. The DEA may also be viewed on the Commission's Web site at http://www.ferc.gov using the “eLibrary” link. Enter the docket number (P-2403, P-2312, or P-2721) excluding the last three digits in the docket number field to access the document. For assistance, contact FERC Online Support at FERCOnlineSupport@ferc.gov or toll-free at 1-866-208-3372, or for TTY, (202) 502-8659.

Any comments should be filed by September 3, 2009, and should be addressed to the Secretary, Federal Energy Regulatory Commission, 888 First Street, NE., Room 1-A, Washington, DC 20426. Please reference the project name and project number (P-2232) on all comments. Comments may be filed electronically via Internet in lieu of paper. The Commission strongly encourages electronic filings. See 18 CFR 385.2001(a)(1)(iii) and the instructions on the Commission's Web site under the “eFiling” link. For further information, contact Christopher Yeakel at (202) 502-8132.

Nathaniel J. Davis, Sr.,
Deputy Secretary.

[FR Doc. E9-19135 Filed 8-10-09; 8:45 am]

BILLING CODE 6717-01-P